DEPARTMENT OF AGRICULTURE

Animal and Plant Health Inspection Service

[Docket No. APHIS-2013-0090]

Notice of Request for Extension of Approval of an Information Collection; U.S. Origin Health Certificate

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the export of animals and animal products from the United States.

DATES: We will consider all comments that we receive on or before March 18, 2014.

ADDRESSES: You may submit comments by either of the following methods:

• Federal eRulemaking Portal: Go to http://www.regulations.gov/#!documentDetail;D=APHIS-2013-0090-0001.

• Postal Mail/Commercial Delivery: Send your comment to Docket No. APHIS-2013-0090, Regulatory Analysis and Development, PPD, APHIS, Station 3A-03.8, 4700 River Road, Unit 118, Riverdale, MD 20737-1238.

Supporting documents and any comments we receive on this docket may be viewed at http://www.regulations.gov/#!docketDetail;D=APHIS-2013-0090 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the export of animals and animal products from the United States, contact Dr. Jacek Taniewski, Assistant Director, Live Animal Export, NIES, VS, APHIS, 4700 River Road, Unit 39, Riverdale, MD 20737; (301) 851-3300. For copies of more detailed information on the information collection, contact Mrs. Celeste Sickles, APHIS' Information Collection Coordinator, at (301) 851-2908.

SUPPLEMENTARY INFORMATION: Title: U.S. Origin Health Certificate.

OMB Control Number: 0579-0020.

Type of Request: Extension of approval of an information collection.

Abstract: The export of agricultural commodities, including animals and animal products, is a major business in the United States and contributes to a favorable balance of trade. Within the U.S. Department of Agriculture's (USDA's) Animal and Plant Health Inspection Service (APHIS), Veterinary Services (VS) maintains information regarding the import health requirements of other countries for animals and animal products exported from the United States, as most countries require a certification that our animals are free from specific diseases and show no clinical evidence of disease. This certification must carry the USDA seal and be endorsed by an APHIS veterinarian, APHIS-accredited veterinarian, or State veterinarian. VS Forms 17-140/17-140A-B (U.S. Origin Health Certificate/Continuation Sheet) and VS Form 17-145 (U.S. Origin Health Certificate for the Export of Horses from the United States to Canada) are used to meet the certification requirements of other countries. In addition, the export of animals and animal products from the United States may involve other information collection activities, including environmental certification for export facilities, notarized statements, documentation of undue hardship for animals departing from a specific export location, requests regarding approval or withdrawal of approval of export facilities, and recordkeeping for modification of rail stanchions on vessels.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.24205 hours per response.

Respondents: Owners of and facility operators for cattle, sheep, goats, and horses; accredited veterinarians; State veterinarians; live animal exporters; and owners or masters of ocean vessels used to export livestock from the United States.

Estimated annual number of respondents: 780.

Estimated annual number of responses per respondent: 93.27.

Estimated annual number of responses: 72,755.

Estimated total annual burden on respondents: 17,611 hours. (Due to averaging, the total annual burden hours may not equal the product of the annual number of responses multiplied by the reporting burden per response.)

All responses to this notice will be summarized and included in the request for OMB approval. All comments will also become a matter of public record.

Done in Washington, DC, this 13th day of January 2014.
Kevin Shea,
Administrator, Animal and Plant Health Inspection Service.

[FR Doc. 2014-00881 Filed 1-16-14; 8:45 am]

BILLING CODE 3410-34-P